ENVIRONMENTAL PROTECTION AGENCY

[EPA-HQ-OECA-2014-0033; FRL-9923-60-OEI]

Information Collection Request Submitted to OMB for Review and Approval; Comment Request; NSPS for Petroleum Refineries (Renewal)

AGENCY: Environmental Protection Agency (EPA).

ACTION: Notice.

SUMMARY: The Environmental Protection Agency has submitted an information collection request (ICR), “NSPS for Petroleum Refineries (40 CFR part 60, subpart J) (Renewal)” (EPA ICR No. 1054.12, OMB Control No. 2060-0022) to the Office of Management and Budget (OMB) for review and approval in accordance with the Paperwork Reduction Act (44 U.S.C. 3501 et seq.). This is a proposed extension of the ICR, which is currently approved through February 28, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2015.

ADDRESSES: Submit your comments, referencing Docket ID Number EPA-HQ-OECA-2014-0033, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The affected sources are (1) fluid catalytic cracking unit (FCCU) catalyst regenerator or fuel gas combustion device (FGCD) other than a flare that commenced construction, reconstruction or modification after June 11, 1973 and on or before May 14, 2007; (2) FGCD fuel gas combustion device that is also a flare that commenced construction, reconstruction or modification after June 11, 1973 and on or before June 24, 2008; or (3) any Claus sulfur recovery plant which commenced construction, reconstruction or modification after October 4, 1976 and on or before May 14, 2007. Units that are constructed, reconstructed or modified after the end date of Subpart J applicability are subject to the requirements under regulations at 40 CFR part 60, subpart Ja. At the time of this ICR renewal, all refinery flares are complying with the NSPS Subpart Ja requirements.

Form Numbers: None.

Respondents/affected entities: Petroleum refineries.

Respondent's obligation to respond: Mandatory (40 CFR part 60, subpart J).

Estimated number of respondents: 150 (total).

Frequency of response: Initially, occasionally, and semiannually.

Total estimated burden: 15,784 hours (per year). Burden is defined at 5 CFR 1320.3(b).

Total estimated cost: $2,264,370 (per year), includes $719,100 annualized capital or operation & maintenance costs.

Changes in the Estimates: There is no change in the respondent labor hours in this ICR compared to the previous ICR because the 2012 rule amendments did not require additional monitoring, recordkeeping and reporting requirements under NSPS J. Modified or reconstructed sources under NSPS Subpart J would trigger NSPS Subpart Ja applicability.

Courtney Kerwin,
Acting Director, Collection Strategies Division.

[FR Doc. 2015-03868 Filed 2-24-15; 8:45 am]

BILLING CODE 6560-50-P